DEPARTMENT OF AGRICULTURE

Agricultural Marketing Service

7 CFR Part 1205

[Doc. No. AMS-CN-25-0018]

Cotton Board Rules and Regulations: Adjusting Supplemental Assessment on Imports (2025 Amendments)

AGENCY: Agricultural Marketing Service, Department of Agriculture (USDA).

ACTION: Withdrawal of direct final rule.

SUMMARY: Due to receipt of a significant adverse comment, the Agricultural Marketing Service (AMS) is withdrawing the direct final rule, “Cotton Board Rules and Regulations: Adjusting Supplemental Assessment on Imports (2025 Amendments),” that published on December 31, 2025.

DATES: Effective February 26, 2026, AMS withdraws the direct final rule published at 90 FR 61261, on December 31, 2025.

FOR FURTHER INFORMATION CONTACT: Sue Coleman, Branch Chief, Research and Promotion, Cotton and Tobacco Program, AMS, USDA, 3275 Appling Road, Memphis, Tennessee 38133; telephone (901) 384-3000; facsimile (901) 384-3033; or email at CottonRP@usda.gov.

SUPPLEMENTARY INFORMATION: On December 31, 2025, AMS published a direct final rule (90 FR 61261). The rule amended the Cotton Board Rules and Regulations, decreasing the value assigned to imported cotton for the purposes of calculating supplemental assessments collected for use by the Cotton Research and Promotion Program. That amendment is required each year to ensure that assessments collected on imported cotton and the cotton content of imported products will be the same as those paid on domestically produced cotton. In addition, in the direct final rule, AMS updated the Import Assessment Table to account for changes since the last assessment adjustment in 2024.

In the direct final rule, AMS stated that if significant adverse comment was received by January 30, 2026, AMS would withdraw the rule. Because AMS received a significant adverse comment on the rule, AMS is now withdrawing the direct final rule.

List of Subjects in 7 CFR Part 1205

Advertising, Agricultural research, Cotton, Marketing agreements, Reporting and recordkeeping requirements.

Accordingly, as of February 26, 2026, AMS withdraws the direct final rule amending 7 CFR part 1205, which published at 90 FR 61261, on December 31, 2025.

Erin Morris,
Administrator, Agricultural Marketing Service.

[FR Doc. 2026-04115 Filed 2-26-26; 4:15 pm]

BILLING CODE 3410-02-P